SECURITIES AND EXCHANGE COMMISSION

Issuer Delisting; Notice of Application of Totta & Acores Financing, Ltd. To Withdraw Its 8.875% Non-Cumulative Guaranteed Preference Shares, Series A, $25.00 par value, From Listing and Registration on the New York Stock Exchange, Inc. File No. 1-14520

October 24, 2003.

Totta & Acores Financial, Ltd., a Cayman Islands corporation (“Issuer”), has filed an application with the Securities and Exchange Commission (“Commission”), pursuant to Section 12(d) of the Securities Exchange Act of 1934 (“Act”) ¹ and Rule 12d2-2(d) thereunder,² to withdraw its 8.875% Non-Cumulative Guaranteed Preference Shares, Series A, $25.00 par value, (“Security”), from listing and registration on the New York Stock Exchange, Inc. (“NYSE” or “Exchange”).

¹ 15 U.S.C. 78l(d).

² 17 CFR 240.12d2-2(d).

The Issuer stated in its application that it has complied with all applicable laws in effect in the jurisdiction of Cayman Islands, in which it is incorporated, and with the NYSE's rules governing an issuer's voluntary withdrawal of a security from listing and registration. The Issuer stated in its application that it has met the requirements of the NYSE rules governing an issuer's voluntary withdrawal of a security from listing and registration.

The Board of Directors (“Board”) of the Issuer approved a resolution on May 13, 2003 to withdraw the Issuer's Security from listing on the NYSE. The Board stated that following reasons factored into its decision to withdraw the Issuer's Security from the Exchange: the limited trading volume; the direct and indirect administrative costs involved with continued NYSE listing and the compliance with its new listing requirements; the continuing and ever increasing administrative cost and expenses associated with the preparation and filing of the reports required by the Commission. The Issuer stated that Security commenced trading on the Cayman Island Stock Exchange on September 2, 2003.

The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before November 14, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-27343 Filed 10-29-03; 8:45 am]

BILLING CODE 8010-01-P